DEPARTMENT OF ENERGY

Federal Energy Regulatory Commission

Combined Notice of Filings #1

Take notice that the Commission received the following electric rate filings:

Docket Numbers: ER10-1519-001.

Applicants: Liberty Electric Power, LLC.

Description: Supplement to Market Power Analysis of Liberty Electric Power, LLC.

Filed Date: 4/10/12.

Accession Number: 20120410-5094.

Comments Due: 5 p.m. ET 5/1/12.

Docket Numbers: ER10-3196-001; ER10-2273-002.

Applicants: PEI Power II, LLC, PEI Power Corporation.

Description: Notice of Change in Status of PEI Power Corporation, et al.

Filed Date: 4/10/12.

Accession Number: 20120410-5038.

Comments Due: 5 p.m. ET 5/1/12.

Docket Numbers: ER11-3035-001.

Applicants: Midland Cogeneration Venture Limited Partnership.

Description: Compliance Filing of Rate Schedule 1 for Reactive Supply Service to be effective 6/1/2011.

Filed Date: 4/10/12.

Accession Number: 20120410-5099.

Comments Due: 5 p.m. ET 5/1/12.

Docket Numbers: ER12-30-001; ER11-47-001; ER11-46-004; ER10-2975-004; ER10-2981-001; ER11-41-001.

Applicants: BlueStar Energy Services Inc., AEP Operating Companies, AEP Energy Partners, Inc., CSW Energy Services, Inc., CSW Operating Companies, AEP Retail Energy Partners LLC.

Description: Notice of Change in Status of American Electric Power Service Corporation et al.

Filed Date: 4/5/12.

Accession Number: 20120405-5195.

Comments Due: 5 p.m. ET 4/26/12.

Docket Numbers: ER12-1462-000.

Applicants: Southern California Edison Company.

Description: SGIA SCE-RE Rosamond One LLC Rosamond One Project to be effective 4/11/2012.

Filed Date: 4/10/12.

Accession Number: 20120410-5002.

Comments Due: 5 p.m. ET 5/1/12.

Docket Numbers: ER12-1463-000.

Applicants: Optim Energy Marketing, LLC.

Description: Optim Energy Notice of Cancellation—CBR to be effective 4/10/2012.

Filed Date: 4/10/12.

Accession Number: 20120410-5045.

Comments Due: 5 p.m. ET 5/1/12.

Docket Numbers: ER12-1464-000.

Applicants: Optim Energy Marketing, LLC.

Description: Optim Energy Notice of Cancellation—MBR to be effective 4/10/2012.

Filed Date: 4/10/12.

Accession Number: 20120410-5048.

Comments Due: 5 p.m. ET 5/1/12.

Docket Numbers: ER12-1465-000.

Applicants: ISO New England Inc.

Description: Conforming Tariff Record Filing to be effective 4/1/2012.

Filed Date: 4/10/12.

Accession Number: 20120410-5049.

Comments Due: 5 p.m. ET 5/1/12.

Docket Numbers: ER12-1466-000.

Applicants: Midwest Independent Transmission System Operator, Inc.

Description: R38 Amended LGIA (04-10-12) to be effective 4/11/2012.

Filed Date: 4/10/12.

Accession Number: 20120410-5055.

Comments Due: 5 p.m. ET 5/1/12.

Docket Numbers: ER12-1467-000.

Applicants: Midwest Independent Transmission System Operator, Inc.

Description: R41 LGIA to be effective 4/11/2012.

Filed Date: 4/10/12.

Accession Number: 20120410-5086.

Comments Due: 5 p.m. ET 5/1/12.

Take notice that the Commission received the following open access transmission tariff filings:

Docket Numbers: OA07-32-013.

Applicants: Entergy Services, Inc.

Description: Informational Report of Entergy Services, Inc. re: Penalty assessments and distributions.

Filed Date: 4/9/12.

Accession Number: 20120409-5167.

Comments Due: 5 p.m. ET 4/30/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 10, 2012.
Nathaniel J. Davis, Sr.,
Deputy Secretary.

[FR Doc. 2012-9383 Filed 4-18-12; 8:45 am]

BILLING CODE 6717-01-P